DEPARTMENT OF ENERGY

Federal Energy Regulatory Commission

[Docket Nos. RP00-395-004, and RP96-348-012 (Not Consolidated)]

Panhandle Eastern Pipe Line Company; Notice of Compliance Filing

January 29, 2002.

Take notice that on January 18, 2002, Panhandle Eastern Pipe Line Company (Panhandle) tendered for filing as part of its FERC Gas Tariff, First Revised Volume No. 1, the following revised tariff sheets proposed to be effective February 1, 2002:

Sub Fifth Revised Sheet No. 252

Original Sheet No. 252A

Sub Third Revised Sheet No. 255A

Sub Fourth Revised Sheet No. 283

Panhandle asserts that the purpose of this filing is to comply with Ordering Paragraph (B) of the Commission's Order on Compliance Filing issued on December 19, 2001 in the above referenced proceedings. 97 FERC ¶ 61,285 (2001). Specifically, the revised tariff sheets reflect clarifications regarding changes to primary and secondary points in Sections 10.5(c), (d) and (e) and 11.9(d), (e) and (f) of the General Terms and Conditions. Additionally, the replacement shipper's right to reserve primary point capacity is clarified in Section 15.7(b) of the General Terms and Conditions.

Panhandle states that copies of this filing are being served on all affected customers, applicable state regulatory agencies and parties to this proceeding.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

C.B. Spencer,
Acting Secretary.

[FR Doc. 02-2580 Filed 2-1-02; 8:45 am]

BILLING CODE 6717-01-P